DEPARTMENT OF JUSTICE

Notice of Lodging of Consent Judgment Pursuant to Clean Air Act

Notice is hereby given that on June 24, 2005, a proposed Consent Judgment in United States v. Advanced Coating Techniques, Inc., Civil Action No. CV-01-5414, was lodged with the United States District Court for the Eastern District of New York.

The proposed Consent Judgment will resolve the United States' claims under Section 113 of the Clean Air Act, 42 U.S.C. 7413, on behalf of the U.S. Environmental Protection Agency against defendant Advanced Coating Techniques, Inc. (“Advanced Coating”) in connection with alleged violations of Section 112 of the CAA, 42 U.S.C 7412, and the National Emission Standards for Chromium Emissions from Hard and Decorative Chromium Electroplating and Chromium Anodizing Tanks, 40 CFR part 63, subpart N. The Consent Judgment requires Advanced Coating to pay $200,000 in civil penalties.

The Department of Justice will receive for a period of thirty (30) days from the date of this publication comments relating to the proposed Consent Judgment. Comments should be addressed to the Assistant Attorney General of the Environment and Natural Resources Division, Department of Justice, Washington, DC 20530, and should refer to require v. Advanced Coating Techniques, Inc., D.J. No. 90-5-2-1-07275.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice Web site, http://www.usdoj.gov/enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $3.00 (25 cent per page reproduction cost) payable to the U.S. Treasury.

Ronald G. Gluck,
Assistant Section Chief, Environmental Enforcement Section, Environment and Natural Resources Division.

[FR Doc. 05-14273 Filed 7-19-05; 8:45 am]

BILLING CODE 4410-15-M